DEPARTMENT OF TRANSPORTATION

Federal Aviation Administration

14 CFR Part 39

[Docket No. FAA-2005-21691; Directorate Identifier 2005-NE-13-AD; Amendment 39-14645; AD 2006-12-19]

RIN 2120-AA64

Airworthiness Directives; Hamilton Sundstrand Model 14RF-19 Propellers

AGENCY: Federal Aviation Administration (FAA), Department of Transportation (DOT).

ACTION: Final rule.

SUMMARY: The FAA is adopting a new airworthiness directive (AD) for Hamilton Sundstrand model 14RF-19 propellers. This AD requires replacing certain actuator yokes with improved actuator yokes. This AD results from certain propeller system actuator yoke arms breaking during flight. We are issuing this AD to prevent actuator yoke arms breaking during flight, which could cause high propeller vibration and contribute to reduced controllability of the airplane.

DATES: This AD becomes effective July 18, 2006. The Director of the Federal Register approved the incorporation by reference of certain publications listed in the regulations as of July 18, 2006.

ADDRESSES: You can get the service information identified in this AD from Hamilton Sundstrand, A United Technologies Company, Publication Manager, Mail Stop 1A-3-Z63, One Hamilton Road, Windsor Locks, CT 06096; fax 1-860-654-5107.

You may examine the AD docket on the Internet at http://dms.dot.gov or in Room PL-401 on the plaza level of the Nassif Building, 400 Seventh Street, SW., Washington, DC.

FOR FURTHER INFORMATION CONTACT: Frank Walsh, Aerospace Engineer, Boston Aircraft Certification Office, FAA, Engine and Propeller Directorate, 12 New England Executive Park, Burlington, MA 01803; telephone (781) 238-7158; fax (781) 238-7170.

SUPPLEMENTARY INFORMATION: We proposed to amend 14 CFR part 39 with a proposed AD. The proposed AD applies to Hamilton Sundstrand Model 14RF-19 propellers. We published the proposed AD in the Federal Register on December 8, 2005 (70 FR 72947). That action proposed to require replacing certain actuator yokes with improved actuator yokes.

Examining the AD Docket

You may examine the docket that contains the AD, any comments received, and any final disposition in person at the Docket Management Facility Docket Office between 9 a.m. and 5 p.m., Monday through Friday, except Federal holidays. The Docket Office (telephone (800) 647-5227) is located on the plaza level of the Department of Transportation Nassif Building at the street address stated in ADDRESSES. Comments will be available in the AD docket shortly after the DMS receives them.

Comments

We provided the public the opportunity to participate in the development of this AD. We received no comments on the proposal or on the determination of the cost to the public.

Conclusion

We have carefully reviewed the available data and determined that air safety and the public interest require adopting the AD as proposed.

Costs of Compliance

We estimate that 80 actuator yoke arms installed on airplanes of U.S. registry will be affected by this AD. We also estimate that the required parts will cost approximately $1,350 per propeller and that it will take about 2 workhours per propeller to perform the actions, and that the average labor rate is $65 per workhour. Based on these figures, we estimate the total cost of the AD to be $118,400.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a summary of the costs to comply with this AD and placed it in the AD Docket. You may get a copy of this summary at the address listed under ADDRESSES.

List of Subjects in 14 CFR Part 39

Air transportation, Aircraft, Aviation safety, Incorporation by reference, Safety.

Adoption of the Amendment

Accordingly, under the authority delegated to me by the Administrator, the Federal Aviation Administration amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2006-12-19 Hamilton Sundstrand: Amendment 39-14645. Docket No. FAA-2005-21691; Directorate Identifier 2005-NE-13-AD.

Effective Date

(a) This airworthiness directive (AD) becomes effective July 18, 2006.

Affected ADs

(b) None.

Applicability

(c) This AD applies to Hamilton Sundstrand Model 14RF-19 propellers with propeller system actuator yoke arms, part number (P/N) 810436-2, which might be installed in actuator assemblies P/N 790119-6. These propellers are installed on, but not limited to, SAAB 340 airplanes.

Unsafe Condition

(d) This AD results from propeller system actuator yoke arms breaking during flight. We are issuing this AD to prevent actuator yoke arms breaking during flight, which could cause high propeller vibration and contribute to reduced controllability of the airplane.

Compliance

(e) You are responsible for having the actions required by this AD performed within 60 days after the effective date of this AD, unless the actions have already been done.

Install Improved Actuator Yoke Arms

(f) Using the Accomplishment Instructions of Hamilton Sundstrand Service Bulletin 14RF-19-61-113, Revision 1, dated September 2, 2003, replace all actuator yoke arms, P/N 810436-2 with improved actuator yoke arms, P/N 810436-3.

(g) Mark newly installed actuators using the Accomplishment Instructions of Hamilton Sundstrand Service Bulletin 14RF-19-61-113, Revision 1, dated September 2, 2003.

(h) After the effective date of this AD, do not install any actuator yoke arms, P/N 810436-2, into any propeller assembly.

Alternative Methods of Compliance

(i) The Manager, Boston Certification Office, has the authority to approve alternative methods of compliance for this AD if requested using the procedures found in 14 CFR 39.19.

Related Information

(j) None.

Material Incorporated by Reference

(k) You must use Hamilton Sundstrand Service Bulletin 14RF-19-61-113, Revision 1, dated September 2, 2003, to perform the replacements and marking required by this AD. The Director of the Federal Register approved the incorporation by reference of this service bulletin in accordance with 5 U.S.C. 552(a) and 1 CFR part 51. Contact Hamilton Sundstrand, A United Technologies Company, Publication Manager, Mail Stop 1A-3-Z63, One Hamilton Road, Windsor Locks, CT 06096; fax 1-860-654-5107, for a copy of this service information. You may review copies at the Docket Management Facility; U.S. Department of Transportation, 400 Seventh Street, SW., Nassif Building, Room PL-401, Washington, DC 20590-0001, on the internet at http://dms.dot.gov, or at the National Archives and Records Administration (NARA). For information on the availability of this material at NARA, call 202-741-6030, or go to: http://www.archives.gov/federal-register/cfr/ibr-locations.html.

Issued in Burlington, Massachusetts, on June 6, 2006.
Thomas A. Boudreau,
Acting Manager, Engine and Propeller Directorate, Aircraft Certification Service.

[FR Doc. 06-5284 Filed 6-12-06; 8:45 am]

BILLING CODE 4910-13-P